DEPARTMENT OF THE INTERIOR

U.S. Geological Survey

[GX13BA02EEW0200]

Agency Information Collection Activities: Submitted for Office of Management and Budget (OMB) Review; Comment Request

AGENCY: U.S. Geological Survey (USGS), Interior.

ACTION: Notice of an extension of currently approved information Collection, 1028-0103.

SUMMARY: To comply with the Paperwork Reduction Act of 1995 (PRA), the U.S. Geological Survey (USGS) is inviting comments on an information collection request (ICR) that we have sent to the Office of Management and Budget (OMB) for review and approval. The ICR concerns the paperwork requirements for the USA National Phenology Network—The Nature's Notebook Plant and Animal Observing Program. As required by the Paperwork Reduction Act (PRA) of 1995, and as part of our continuing efforts to reduce paperwork and respondent burden, we invite the general public and other Federal agencies to take this opportunity to comment on this ICR. This collection is scheduled to expire on January 31, 2013.

DATES: Submit written comments by January 3, 2013.

ADDRESSES: Please submit comments on this information collection directly to the Office of Management and Budget (OMB), Office of Information and Regulatory Affairs, Attention: Desk Officer for the Department of the Interior via email: (OIRA_SUBMISSION@omb.eop.gov); or by fax (202) 395-5806; and identify your submission with #1028-0103. Please also submit a copy of your comments to Information Collection Clearance Officer, U.S. Geological Survey, 807 National Center, Reston, VA 20192 (mail); or smbaloch@usgs.gov (email). Please Reference Information Collection 1028-0103 in the subject line.

FOR FURTHER INFORMATION CONTACT: Jake F. Weltzin, Ecologist, U.S. Geological Survey, jweltzin@usgs.gov, (520) 626-3821.

SUPPLEMENTARY INFORMATION: Title: USA National Phenology Network—The Nature's Notebook Plant and Animal Observing Program.

OMB Control Number: 1028-0103.

Type of Request: Notice of an extension of a currently approved information collection.

Respondent Obligation: Voluntary.

Abstract: The USA-NPN is a program sponsored by the USGS that uses standardized forms for tracking plant and animal activity as part of a project called Nature's Notebook. The Nature's Notebook forms are used to record phenology (e.g., timing of leafing or flowering of plants and reproduction or migration of animals) as part of a nationwide effort to understand and predict how plants and animals respond to environmental variation and changes in weather and climate. Contemporary data collected through Nature's Notebook are quality-checked, described and made publicly available; data are used to inform decision-making in a variety of contexts, including agriculture, drought monitoring, and wildfire risk assessment. Phenological information is also critical for the management of wildlife, invasive species, and agricultural pests, and for understanding and managing risks to human health and welfare, including allergies, asthma, and vector-borne diseases. Participants may contribute phenology information to Nature's Notebook through a browser-based web application or via mobile applications for iPhone and Android operating systems, meeting GPEA requirements. The web application interface consists of several components: user registration, a searchable list of 877 plant and animal species which can be observed; a “profile” for each species that contains information about the species including its description and the appropriate monitoring protocols; a series of interfaces for registering as an observer, registering a site, registering plants and animals at a site, generating datasheets to take to the field, and a data entry page that mimics the datasheets.

Frequency of Collection: On occasion. During the Spring and Fall seasons when phenology is changing quickly, we recommend respondents make observations twice per week.

Estimated Number and Description of Respondents: In addition to those users already registered, we expect an additional 1,027 users will register each year. These respondents are members of the public, registered with Nature's Notebook.

Estimated Annual Responses: 501,130.

Estimated Annual burden hours: 17,032.

Estimated Reporting and Recordkeeping “Non-Hour Cost” Burden: We estimate the non-hour cost burden to be $3.34 per respondent. This cost applies to new observers and includes material used to mark sites or plants during the first observation. Marking helps to ensure reporting consistency for future observations.

Public Disclosure Statement: The PRA (44 U.S.C. 3501, et seq.) provides that an agency may not conduct or sponsor and you are not required to respond to a collection of information unless it displays a currently valid OMB control number.

Comments: To comply with the public consultation process, on August 10, 2012, we published a Federal Register notice (77 FR 47867) announcing that we would submit this ICR to OMB for approval. The notice provided the required 60-day public comment period, which ended October 9, 2012. In response to our Federal Register Notice, we received one comment, which consisted of a general invective about the U.S. Government and did not pertain to this information collection. We again invite comments concerning this information collection on: (1) Whether or not the collection of information is necessary, including whether or not the information will have practical utility; (2) the accuracy of our estimate of the burden for this collection of information; (3) ways to enhance the quality, utility, and clarity of the information to be collected; and (4) ways to minimize the burden of the collection of information on respondents. Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: November 26, 2012.
William Lellis,
Deputy Associate Director, Ecosystems Mission Area.

[FR Doc. 2012-29151 Filed 12-3-12; 8:45 am]

BILLING CODE 4311-AM-P